DEPARTMENT OF HEALTH AND HUMAN SERVICES

Agency for Toxic Substance and Disease Registry

[60Day-19-19GW; Docket No. ATSDR-2018-0010]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other Federal agencies the opportunity to comment on a proposed and/or continuing information collection, as required by the Paperwork Reduction Act of 1995. This notice invites comment on “Exposure Characterization and Measurements during Activities Conducted on Synthetic Turf Fields with Tire Crumb Rubber Infill.” The purpose of the proposed study is to evaluate and characterize human exposure potential to select chemicals during play on synthetic turf fields with tire crumb rubber infill.

DATES: ATSDR must receive written comments on or before February 25, 2019.

ADDRESSES: You may submit comments, identified by Docket No. ATSDR-2018-0010 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. ATSDR will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Exposure Characterization and Measurements during Activities Conducted on Synthetic Turf Fields with Tire Crumb Rubber Infill—New—Agency for Toxic Substances and Disease Registry (ATSDR).

Background and Brief Description

Currently in the United States, there are more than 12,000 synthetic turf fields in use. While the Synthetic Turf Council has set guidelines for the content of crumb rubber used as infill in synthetic turf fields, manufacturing processes result in differences among types of crumb rubber. Additionally, the chemical composition may vary highly between different processes and source materials and may vary even within granules from the same origin.

The research protocol, Collections Related to Synthetic Turf Fields with Crumb Rubber Infill, has been conducted previously under two ICRs: Activity 1 under OMB Control No. 0923-0054 (expiration date 01/31/2017) and Activities 2 and 3 under OMB Control No. 0923-0058 (expiration date 08/13/2018). Activity 1 aimed to collect tire crumb rubber samples from 40 synthetic turf fields across the US and from nine manufacturing facilities. Samples collection for Activity 1 was completed in November 2016. Activities 2 and 3 aim to evaluate and characterize the human exposure potential to constituents in crumb rubber infill among a convenience sample of 60 field users (Activity 2) and to collect biological specimens (blood and urine) from 45 participants (Activity 3). During Activities 2 and 3, ATSDR and USEPA recruited and sampled a small number of field users in scheduled activities at fields that participated in Activity 1. However, the pilot scale study was limited in sample size and scope.

The agencies are requesting a new information collection request (ICR) for a two-year PRA clearance to conduct a supplemental data collection, now titled “Exposure Characterization and Measurements during Activities Conducted on Synthetic Turf Fields with Tire Crumb Rubber Infill”. Preliminary results from the pilot scale study indicate the need for further investigation for a select group of chemicals to which field users may potentially be exposed. The proposed study will be a larger-scale assessment of exposure potential for individuals who use/play on synthetic turf fields with tire crumb rubber infill that will address key limitations; specifically, the sample size limitations in the pilot scale study and the lack of a comparison population. The study will include persons who use synthetic turf fields with crumb rubber infill (e.g., field users) and who routinely perform activities that would result in a high level of contact to crumb rubber. The study will also include persons who play on natural grass fields. Persons who play on natural grass fields will provide a comparison group and allow for evaluation of exposures to constituents in tire crumb rubber among synthetic turf field users.

The respondents will be administered a detailed questionnaire on activity patterns on synthetic turf with crumb rubber infill. This instrument will be used to characterize exposure scenarios, including the nature and duration of potential exposures. Additionally, the questionnaire will include queries on potential external sources, such as dietary sources, to select chemicals. We will collect urine samples pre- and post-activity. The urine samples will be analyzed for polyaromatic hydrocarbons and also archived for future analysis in the event of new analytical methods for potential chemicals of interest.

The research study will screen a total of 220 participants for eligibility. The target sample size for synthetic turf field users is 150 and 50 for the natural grass field users. The total burden hours for the research study is 184 hours among all of the 220 respondents. There is no cost to the respondents other than their time.

Estimated Annualized Burden Hours
Type of respondents | Form name | Number of respondents | Number of responses per respondent | Average burden per response (in hrs.) | Total burden (in hrs.)
Adult/Adolescent Field Users | Eligibility Screening Form | 110 | 1 | 5/60 | 9
| Adult and Adolescent Questionnaire | 100 | 1 | 30/60 | 50
| Exposure Measurement Form | 100 | 1 | 20/60 | 33
Parents/Guardians of Youth/Child Field Users | Eligibility Screening Form | 110 | 1 | 5/60 | 9
| Youth and Child Questionnaire | 100 | 1 | 30/60 | 50
Youth/Child Field Users | Exposure Measurement Form | 100 | 1 | 20/60 | 33
Total |  |  |  |  | 184

Jeffrey M. Zirger,
Acting Lead, Information Collection Review Office, Office of Scientific Integrity, Office of Science, Centers for Disease Control and Prevention.

[FR Doc. 2018-27854 Filed 12-21-18; 8:45 am]

BILLING CODE 4163-18-P